DEPARTMENT OF VETERANS AFFAIRS

VA Prevention of Fraud, Waste, and Abuse Advisory Committee; Notice of Establishment

As required by Section 9(a)(2) of the Federal Advisory Committee Act, the Department of Veterans Affairs hereby gives notice of the establishment of the VA Prevention of Fraud, Waste, and Abuse Advisory Committee (Committee). The Secretary of Veterans Affairs has determined that establishing the Committee is both necessary and in the public interest.

The Committee will advise the Secretary and the Assistant Secretary for Management and Chief Financial Officer on matters related to improving and enhancing VA's efforts to identify, prevent, and mitigate fraud, waste, and abuse across VA in order to improve the integrity of VA's payments and the efficiency of VA's programs and activities.

Committee members will be appointed by the Secretary and membership will be drawn from various sectors and organizations including but not limited to Veteran-focused organizations, academic communities, health care providers, insurance providers, other Federal agencies, former Federal Inspectors General, Veteran Service Organizations, Military Service Organizations, and leaders of key stakeholder associations and organizations.

Any member of the public seeking additional information should contact Gregory Woskow, Designated Federal Officer (DFO), Department of Veterans Affairs, 810 Vermont Avenue NW., Room 446D, Washington, DC, or email at Gregory.Woskow@va.gov; or via phone at (720) 471-1235.

Dated: July 10, 2017.
Jelessa M. Burney,
Federal Advisory Committee Management Officer.

[FR Doc. 2017-14780 Filed 7-13-17; 8:45 am]

BILLING CODE P